FEDERAL COMMUNICATIONS COMMISSION

47 CFR Parts 52 and 64

[CG Docket No. 03-123 and WC Docket No. 05-196; FCC 08-151]

Telecommunications Relay Services and Speech-to-Speech Services for Individuals With Hearing and Speech Disabilities; E911 Requirements for IP-Enabled Service Providers

AGENCY: Federal Communications Commission.

ACTION: Proposed rule.

SUMMARY: In this document, the Commission seeks comment on additional issues relating to the assignment and administration of ten-digit telephone numbers for Internet-based Telecommunications Relay Services (TRS).

DATES: Comments are due on or before August 8, 2008. Reply comments are due on or before August 25, 2008. Written Paperwork Reduction Act (PRA) comments on the proposed information collection requirements should be submitted on or before September 16, 2008.

ADDRESSES: Interested parties may submit comments identified by FCC 08-151 by any of the following methods:

• Electronic Filers: Comments may be filed electronically using the Internet by accessing the Commission's Electronic Comment Filing System (ECFS), through the Commission's Web site: http://www.fcc.gov/cgb/ecfs/, or the Federal eRulemaking Portal: http://www.regulations.gov. Filers should follow the instructions provided on the Web site for submitting comments. For ECFS filers, in completing the transmittal screen, filers should include their full name, U.S. Postal Service mailing address, and CG Docket No. 03-123 and WC Docket No. 05-196. Parties also may submit an electronic comment by Internet e-mail. To get filing instructions, filers should send an e-mail to ecfs@fcc.gov, and include the following words in the body of the message, “get form <your e-mail address>.” A sample form and directions will be sent in response.

• Paper filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial Mail sent by overnight mail (other than U.S. Postal Service Express Mail and Priority Mail) must be sent to 9300 East Hampton Drive, Capitol Heights, MD 20743.

• U.S. Postal Service first-class, Express, and Priority mail should be addressed to 445 12th Street, SW., Washington, DC 20554.

Parties who choose to file by paper also should submit their comments on compact disc. The compact disc should be submitted, along with three paper copies, to: Dana Wilson, Consumer and Governmental Affairs Bureau, Disability Rights Office, 445 12th Street, SW., Room 3-C418, Washington, DC 20554. Such submission should be on a compact disc formatted in an IBM compatible format using Word 2003 or a compatible software. The compact disc should be accompanied by a cover letter and should be submitted in “read only” mode. The compact disc should be clearly labeled with the commenter's name, proceeding (CG Docket No. 03-123 and WC Docket No. 05-196), type of pleading (comment or reply comment), date of submission, and the name of the electronic file on the compact disc. The label also should include the following phrase: “CD-Rom Copy—Not an Original.” Each compact disc should contain only one party's pleadings, preferably in a single electronic file. In addition, commenters filing by paper must send a compact disc copy to the Commission's duplicating contractor at Portals II, 445 12th Street, SW., Room CY-B402, Washington, DC 20554.

In addition, comments on the PRA information collection requirements contained herein should be submitted to Cathy Williams, Federal Communications Commission, Room 1-C823, 445 12th Street, SW., Washington, DC 20554, or via the Internet to PRA@fcc.gov or Cathy.Williams@fcc.gov, and to Nicholas A. Fraser, Office of Management and Budget (OMB), Desk Office via the Internet to Nicholas_A._Fraser@omb.eop.gov, or via fax at (202) 395-5167.

FOR FURTHER INFORMATION CONTACT: Thomas Chandler, Consumer and Governmental Affairs Bureau, Disability Rights Office at (202) 418-1475 (voice), (202) 418-0597 (TTY), or e-mail at Thomas.Chandler@fcc.gov. For additional information concerning the PRA information collection requirements contained in this document, contact Cathy Williams at (202) 418-2918, or via the Internet at Cathy.Williams@fcc.gov or PRA@fcc.gov.

SUPPLEMENTARY INFORMATION: This is a summary of the Commission's Telecommunications Relay Services and Speech-to-Speech Services for Individuals with Hearing and Speech Disabilities; E911 Requirements for IP-Enabled Service Providers, Further Notice of Proposed Rulemaking (FNPRM), document FCC 08-151, adopted June 11, 2008, and released June 24, 2008, in CG Docket No. 03-123 and WC Docket No. 05-196, seeking comment on additional issues relating to the assignment and administration of ten-digit telephone numbers for Internet-based TRS. In association with the FNPRM, on June 24, 2008, the Commission issued a Report and Order in CG Docket No. 03-123 and WC Docket No. 05-196, FCC 08-151, adopting a system for assigning users of Internet-based TRS, specifically, Video Relay Service (VRS) and IP Relay, ten-digit telephone numbers linked to the North American Numbering Plan (NANP). The issues on which the Commission seeks further comment in the FNPRM arise from the companion Report and Order, as well as the following items from which the Report and Order emanated: (1) Telecommunications Relay Services and Speech-to-Speech Services for Individuals with Hearing and Speech Disabilities, Notice of Proposed Rulemaking, CG Docket No. 03-123, document FCC 05-196, published at 71 FR 5221, February 1, 2006; (2) Telecommunications Relay Services and Speech-to-Speech Services for Individuals with Hearing and Speech Disabilities, Declaratory Ruling and Further Notice of Proposed Rulemaking, CG Docket No. 03-123, document FCC 06-57, published at 71 FR 30818 and 71 FR 30848, May 31, 2006; (3) Telecommunications Relay Services and Speech-to-Speech Services for Individuals with Hearing and Speech Disabilities, Further Notice of Proposed Rulemaking, CG Docket No. 03-123, document FCC 06-58, published at 71 FR 31131, June 1, 2006; (4) Telecommunications Relay Services and Speech-to-Speech Services for Individuals with Hearing and Speech Disabilities; E911 Requirements For IP-Enabled Service Providers, Report and Order, CG Docket No. 03-123 and WC Docket No. 05-196, document FCC 08-78, published at 73 FR 21252, April 21, 2008; and (5) Consumer and Governmental Affairs Bureau Seeks To Refresh Record on Assigning Internet Protocol (IP)-Based Telecommunications Relay Service (TRS) Users Ten-Digit Telephone Numbers Linked to North American Numbering Plan (NANP) and Related Issues, Public Notice, CG Docket No. 03-123, document DA 08-607, published at 73 FR 16304, March 27, 2008.

The full text of document FCC 08-151 and copies of any subsequently filed documents in this matter will be available for public inspection and copying during regular business hours at the FCC Reference Information Center, Portals II, 445 12th Street, SW., Room CY-A257, Washington, DC 20554. Document FCC 08-151 and copies of subsequently filed documents in this matter may also be purchased from the Commission's duplicating contractor at Portals II, 445 12th Street, SW., Room CY-B402, Washington, DC 20554. Customers may contact the Commission's duplicating contractor at its Web site, www.bcpiweb.com, or by calling 1-800-378-3160. Document FCC 08-151 can also be downloaded in Word or Portable Document Format (PDF) at: http://www.fcc.gov/cgb/dro/trs.html.

People with Disabilities: To request materials in accessible formats for people with disabilities (Braille, large print, electronic files, audio format), send an e-mail to fcc504@fcc.gov or call the Consumer and Governmental Affairs Bureau at (202) 418-0530 (voice), (202) 418-0432 (TTY).

Initial Paperwork Reduction Act of 1995 Analysis

The Commission, as part of its continuing effort to reduce paperwork burdens, invites the general public and the Office of Management and Budget (OMB) to comment on the information collection requirements contained in this document, as required by the PRA of 1995, Public Law 104-13. Public and agency comments are due September 16, 2008. Comments should address: (a) whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated information collection techniques or other forms of information technology. In addition, pursuant to the Small Business Paperwork Relief Act of 202, Public Law 107-198, see 44 U.S.C. 3506 (c)(4), the Commission seeks specific comment on how it may “further reduce the information collection burden for small business concerns with fewer than 25 employees.”

OMB Control Number: 3060-1089.

Title: Telephone Numbering System and E911 Requirements for Internet-based Telecommunications Relay Service Providers, Further Notice of Proposed Rulemaking, CG Docket No. 03-123 and WC Docket No. 05-196, FCC 08-151.

Form No. N/A.

Type of Review: Revision of a currently approved collection.

Respondents: Business or other for-profit; Individuals or households; Not-for-profit institutions; State, Local or Tribal Government.

Number of Respondents and Responses: 202,566 respondents; 178,646,320 responses.

Estimated Time per Response: 1 second to 8 hours.

Frequency of Response: One-time and on occasion reporting requirements; Recordkeeping requirement; Third party disclosure requirement.

Obligation to Respond: Required to obtain or retain benefits. The statutory authority is contained in sections 1, 2, 4(i), (4)(j), 222, 225, 251, and 303(r) of the Communications Act of 1934, as amended, 47 U.S.C. 151, 152, 154(i), 154(j), 222, 225, 251, 303(r).

Total Annual Burden: 103,883 hours.

Total Annual Costs: $10,520.

Nature and Extent of Confidentiality: An assurance of confidentiality is not offered because the Commission has no direct involvement in the collection of personally identifiable information (PII) from individuals and/or households.

Privacy Act Impact Assessment: No impact(s).

Needs and Uses: In this document, the Commission proposes information collection requirements for the following:

(A) Provision of Registered Location to Non-Default Providers. Registered Location information will be used by each Internet-based TRS provider, as well as their 911 service providers, to complete 911 calls placed by callers that have selected another Internet-based TRS provider as their default provider. This information will be used whenever a 911 call is placed through a non-default provider.

(B) Inter-Provider Signaling. Each Internet-based TRS provider will collect its registered users' registration and routing information to register its users' Internet-based TRS devices, verify its users' registration, and use the information in the transition to standards-based signaling and SIP-based end devices.

(C) Device Registration. Device registration will be used to improve the security of the security of the TRS numbering system and the equipment and networks of both providers and users.

(D) Verification of Registration. Registration verification will be used to help reduce fraud by ensuring a calling party is entitled to access the network.

(E) Slamming. Each Internet-based TRS provider will use the Internet-based TRS users' information to implement Section 258 of the Act and deter slamming, while protecting Internet-based TRS users from providers that may take advantage of confusion over different types of Internet-based TRS services.

(F) Consumer Privacy. Each Internet-based TRS provider will collect its users' network information, including their call records, Registered Location, or other personally identifiable account or usage information in accordance with Section 222 of the Act and the Commission's implementing rules.

(G) Extending Information Collections to IP CTS. Each IP CTS provider will collect the necessary information from its users to comply with the rules set forth in the Report and Order as well as the proposals set forth in the FNPRM to allow users of IP CTS to take advantage of the ten-digit numbering system and related protections.

Synopsis

Through the FNPRM, the Commission seeks comment on additional issues relating to the assignment and administration of ten-digit telephone numbers for Internet-based TRS. These issues include: (1) Certain peripheral issues concerning the proper handling of 911 calls placed via Internet-based TRS; (2) an appropriate registration period; (3) the eligibility of Internet-based TRS users to receive multiple telephone numbers; (4) the use of toll free numbers; (5) what steps the Commission should take, if any, to facilitate implementation of standards-based signaling between service providers; (6) the assignment of a single telephone number to multiple services; (7) multi-line telephone systems; (8) eligibility to obtain Internet-based TRS telephone numbers; (9) the regulatory treatment of IP CTS; (10) additional security measures designed to ensure the integrity of the TRS system and Internet-based TRS equipment and networks; (11) verification of registration; (12) application of the anti-slamming rules to protect relay consumers against unauthorized default provider changes; (13) the extent to which the CPNI rules should apply to Internet-based TRS providers; and (14) whether, and to what extent, in connection with the compensation of Internet-based TRS providers for their reasonable actual costs of complying with the Report and Order, the costs of acquiring numbers, including porting fees, should be passed on to Internet-based TRS users.

911 Issues. The Commission seeks comment on whether the Commission should modify the call completion rule to allow for immediate answer of 911 calls. Under the current call completion rule, if a CA is conducting a relay call, that CA may not terminate the call for any reason, even if a 911 call is waiting in queue. As demonstrated in the record, immediate response to 911 calls is critical so first responders can be deployed in an emergency. Thus, the Commission seeks comment on whether the call completion rule should be modified so that if a CA is handling a non-emergency relay call and identifies an incoming 911 call, the CA may terminate the existing call to answer the 911 call immediately. If so, how should the rule be modified? What, if any, technical considerations must be addressed?

In addition, if an Internet-based TRS user places an emergency call through an Internet-based TRS provider other than the Internet-based TRS user's default provider, the default provider may not have access to the Internet-based TRS user's Registered Location information. The Commission seeks comment on ways in which Registered Location information might be made available to alternative relay providers for the purpose of routing emergency calls.

Registration Period. The Commission recognizes that there must be a registration period to allow existing Internet-based TRS users to register with a default provider, provide their Registered Location, and obtain their new ten-digit NANP telephone numbers. The Commission also seeks comment on the length of time necessary for this registration period. Should there be a cut-off date upon which any Internet-based TRS user who has not registered with a default provider will lose the ability to use Internet-based TRS services until they register with a default provider? Are there technical or other means by which Internet-based TRS providers could require an Internet-based TRS user to register prior to the reinitiation of service? Are there any other issues the Commission must consider in connection with the registration period?

Eligibility for Multiple Telephone Numbers. The Commission notes that Internet-based TRS providers will incur costs to acquire telephone numbers for their Registered Internet-based TRS users. There is some discussion in the record of how many numbers an Internet-based TRS user should be entitled to obtain from an Internet-based TRS provider, including allowing an Internet-based TRS user to obtain different numbers for use at particular locations (e.g., home and work), allowing one telephone number per device, and allowing one telephone number per household. The record does not, however, reflect a consensus on this issue, and the Commission requests further comment on whether Internet-based TRS users should be entitled to obtain multiple numbers, and if so at what cost.

Use of Toll Free Numbers. The Commission acknowledges that certain Internet-based TRS users currently use toll free numbers issued or assigned by Internet-based TRS providers or other carriers and may continue to do so. The Commission seeks comment on whether these Internet-based TRS users should be subject to a fee for use of a toll free number, as are hearing users. The Commission also seeks comment on any other issues involved in using toll free numbers for Internet-based TRS, including any impact the use of such numbers may have on the provision of 911 service.

Signaling. NeuStar's TRU proposes that standards-based signaling be required between service providers. NeuStar suggests that inter-provider signaling using Session Initiation Protocol (SIP) for TRS will facilitate a transition from the current requirement that end devices implement H.323 protocols to an environment that will support H.323 standard and SIP end devices. The Commission invites comments on NeuStar's underlying objective of transitioning to SIP-based end devices and steps the Commission could take to facilitate the process. The Commission also seeks comment on what steps, if any, it should take to facilitate implementation of standards-based signaling between service providers in other contexts, such as IP Relay.

Assignment of a Single Telephone Number to Multiple Services. The Commission seeks comment on whether the functional equivalency standard requires that the numbering system adopted in the Report and Order allow for a single NANP number to be assigned to multiple services.

Multi-Line Telephone Systems. The Commission seeks comment on what, if anything, the Commission should do to ensure that Internet-based TRS users who work in government buildings, live on college campuses, or otherwise use multi-line telephone systems have access to functionally equivalent telephone numbers and E911 services as required by the Report and Order.

Eligibility to Obtain Internet-Based TRS Telephone Numbers. The Commission seeks comment on who should be eligible to obtain telephone numbers from Internet-based TRS providers.

Regulatory Treatment of IP CTS. The Commission seeks comment on whether the Commission should extend the numbering system adopted in the Report and Order to IP CTS.

Security. The Commission seeks comment on NeuStar's proposals to require device registration, close firewalls, and “close the network” such that default Internet-based TRS providers only accept calls from their own Registered Internet-based TRS users, from the PSTN, or from another Internet-based TRS provider. See NeuStar Refresh Comments at pages 10-11. The Commission seeks further comment on whether there are other security issues and measures that should be considered to ensure the integrity of the TRS system and the equipment and networks of Internet-based TRS users.

Verification of Registration. The Commission believes that requiring Internet-based TRS providers to offer their users a means of registering will help reduce the abuse of IP Relay for fraudulent purposes. Nonetheless, the Commission recognizes that significantly reducing illegitimate IP Relay calls should benefit merchants, Internet-based TRS providers, Internet-based TRS users, and indeed all users of telecommunications services, and therefore seek comment on further rules that might curb these problematic practices. Specifically, would a closed system requiring Internet-based TRS providers to validate the registration of users before completing non-emergency calls help curb IP Relay fraud? Would such a system be possible without imposing undue burdens on legitimate Internet-based TRS users? And how are Internet-based TRS providers to verify that registration information itself is not fraudulent? Absent such a mandatory system, should the Commission specifically encourage (or even require) Internet-based TRS providers to filter out requests for Internet-based TRS that come from suspected illegitimate users, such as known fraudsters or overseas users?

Slamming Issues. With the Commission's adoption of a ten-digit numbering mechanism for Internet-based TRS users, including giving users a choice of default Internet-based TRS providers to service their assigned numbers, the Commission believes the Commission should adopt rules to protect relay consumers against unauthorized default provider changes. The Commission seeks comment on whether such protections are necessary and, if so, whether they should be similar to the Commission's current regulations to protect against, and remedy instances of, “slamming.”

Consumer Privacy. The Commission seeks comment on what, if any, specific actions the Commission should take to ensure the privacy and security of TRS consumers' call records or other personally identifiable account or usage information, including the information users provide in connection with the Registered Location requirement discussed in the Report and Order.

Cost Recovery Issues. As outlined in the Report and Order, the Commission concludes that Internet-based TRS providers may seek compensation from the Fund for their actual reasonable costs of complying with the new requirements adopted in the Report and Order. The Commission has not included, however, those costs directly related to consumers' acquiring a number or to the costs associated with number portability. Because these costs generally are borne by voice telephone users, the Commission seeks comment on whether Internet-based TRS users acquiring ten-digit numbers should also bear these costs. The Commission further seeks comment on whether, and to what extent, the costs of acquiring numbers, including porting fees, should be passed on to the Internet-based TRS users, and not paid for by the Fund. The Commission notes that because Internet-based TRS users will now have a default provider—e.g., the provider from which they obtained their number or a provider to which they ported their number—that provider can pass the costs of acquiring the number, or of porting the number, to the consumer. The Commission also seeks comment on whether there are other specific costs that result from the requirements adopted in the Report and Order that, mirroring voice telephone consumers, should be passed on to consumers, including, for example, E911 charges.

Initial Regulatory Flexibility Certification

The Regulatory Flexibility Act of 1980, as amended (RFA), requires that an initial regulatory flexibility analysis be prepared for notice-and-comment rulemaking proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one that: (1) is independently owned and operated; (2) is not dominant in its field of operation; and (3) satisfies any additional criteria established by the Small Business Administration (SBA).

In the FNPRM, the Commission seeks comment on additional issues relating to the assignment and administration of ten-digit telephone numbers for VRS and IP Relay users. For example, the Commission proposes a modification of the call completion requirement under the Commission's TRS rules so that if a CA is handling a non-emergency relay call and identifies an incoming 911 call, the CA may terminate the existing call to immediately answer the 911 call. The Commission also seeks comment on ways in which Registered Location information might be made available to alternative relay providers for the purpose of routing emergency calls in the event that an Internet-based TRS user places an emergency call through an Internet-based TRS provider other than the user's default provider. The Commission proposes a registration period to allow existing Internet-based TRS users to register with, and obtain a ten-digit NANP telephone number from, a default provider, and seeks comment on the appropriate length of such a period. The Commission also seeks comment on the eligibility of Internet-based TRS users for multiple telephone numbers; issues related to the use of toll-free numbers for Internet-based TRS; the assignment of a single telephone number to multiple services; who should be entitled to receive an Internet-based TRS telephone number; the appropriate regulatory treatment of IP CTS; and what, if anything, the Commission should do to ensure that Internet-based TRS users who use multi-line telephone systems have access to functionally equivalent telephone numbers and E911 services as required by the Report and Order. Further, the Commission seeks comment on the steps it should take, if any, to facilitate implementation of SIP-based signaling between service providers in order to make possible a transition from the current requirement that end devices implement H. 323 protocols to an environment that will support H. 323 standard and SIP end devices. The Commission also contemplates security measures designed to ensure the integrity of the TRS system and the equipment and networks of Internet-based TRS users and seeks comment on what, if any, additional steps it might take to combat IP Relay fraud. The Commission further proposes the application of the Commission's anti-slamming rules to protect relay consumers against unauthorized default provider changes, and the application of the Commission's CPNI rules to protect the privacy of consumers' call records or other personally identifiable account or usage information. Finally, the Commission proposes that the costs of acquiring ten-digit telephone numbers, and porting those numbers, should be passed on to Internet-based TRS users.

The Commission considers whether the proposed changes are necessary to ensure that users of Internet-based TRS receive functionally equivalent telephone service, as mandated by Title IV of the Americans with Disabilities Act. Although the proposed changes may result in additional reporting and recordkeeping requirements on the part of the affected providers, including small entities, the providers will be promptly reimbursed from the Interstate TRS Fund for the costs of complying with the proposed rules, if adopted. Entities, especially small businesses, are encouraged to quantify the costs and benefits of any reporting requirement that may be established in this proceeding. The modifications the Commission proposes consist of policies aimed at achieving a functionally equivalent telephone service for Internet-based TRS users and are not expected to have a substantial economic impact upon providers, including small businesses, because each small business will receive financial compensation for reasonable costs incurred rather than absorb an uncompensated financial loss or hardship.

With regard to whether a substantial number of small entities may be affected by the requirements proposed in the FNPRM, the Commission notes that, of the 11 providers affected by the FNPRM, only three meet the definition of a small entity. The SBA has developed a small business size standard for Wired Telecommunications Carriers, which consists of all such firms having 1,500 or fewer employees. Currently, 11 providers receive compensation from the Interstate TRS Fund for providing Internet-based TRS: AT&T Corp.; CSDVRS; CAC; GoAmerica; Hamilton Relay, Inc.; Hands On; Healinc; Nordia Inc.; Snap Telecommunications, Inc; Sorenson; and Sprint. Because only three of the providers that would be affected by the FNPRM, if adopted, are deemed to be small entities under the SBA's small business size standard, the Commission concludes that the number of small entities potentially affected by the Commission's proposed rules is not substantial. Moreover, given that all providers potentially affected by the proposed rules, including the three that are deemed to be small entities under the SBA's standard, would be entitled to receive prompt reimbursement for their reasonable costs of compliance, the Commission concludes that the FNPRM, if adopted, will not have a significant economic impact on these small entities.

Therefore, the Commission certifies that the proposals in the FNPRM, if adopted, will not have a significant economic impact on a substantial number of small entities.

Ordering Clauses

Pursuant to sections 1, 2, 4(i), 4(j), 225, 251, and 303(r) of the Communications Act of 1934, as amended, 47 U.S.C. 151, 152, 154(i), 154(j), 225, 251, 303(r), the Further Notice of Proposed Rulemaking is adopted.

The Further Notice of Proposed Rulemaking shall be effective August 18, 2008.

The Commission's Consumer and Governmental Affairs Bureau, Reference Information Center, Shall Send a copy of the Further Notice of Proposed Rulemaking, including the Initial Regulatory Flexibility Certification, to the Chief Counsel for Advocacy of the Small Business Administration.

Federal Communications Commission.
William F. Caton,
Deputy Secretary.

[FR Doc. E8-16270 Filed 7-17-08; 8:45 am]

BILLING CODE 6712-01-P